DEPARTMENT OF ENERGY

Blue Ribbon Commission on America's Nuclear Future, Transportation and Storage Subcommittee

AGENCY: Department of Energy, Office of Nuclear Energy.

ACTION: Notice of open meeting.

SUMMARY: This notice announces an open meeting of the Transportation and Storage (T&S) Subcommittee. The T&S Subcommittee is a subcommittee of the Blue Ribbon Commission on America's Nuclear Future (the Commission). The establishment of subcommittees is authorized in the Commission's charter. The Commission was organized pursuant to the Federal Advisory Committee Act (Pub. L. 92-463, 86 Stat. 770) (the Act). This notice is provided consistent with the Act.

DATES: Tuesday, August 10, 2010, 9 a.m.-12 p.m.

ADDRESSES: Chewonki Foundation, 485 Chewonki Neck Road, Wiscasset, Maine 04578-4822. Phone: 207-882-7323.

FOR FURTHER INFORMATION CONTACT: Timothy A. Frazier, Designated Federal Officer, U.S. Department of Energy, 1000 Independence Avenue, SW., Washington, DC 20585; telephone (202) 586-4243 or facsimile (202) 586-0544; e-mail CommissionDFO@nuclear.energy.gov. Additional information may also be available at http://www.brc.gov.

SUPPLEMENTARY INFORMATION: Background: The President directed that the Blue Ribbon Commission on America's Nuclear Future (the Commission) be established to conduct a comprehensive review of policies for managing the back end of the nuclear fuel cycle. The Commission will provide advice and make recommendations on issues including alternatives for the storage, processing, and disposal of civilian and defense spent nuclear fuel and nuclear waste.

The Co-chairs of the Commission requested the formation of the T&S Subcommittee to answer the question: “[s]hould the US change the way in which it is storing used nuclear fuel and high level waste while one or more final disposal locations are established?”

Purpose of the Meeting: The session will provide the T&S Subcommittee with a range of local and regional perspectives from elected officials, utility representatives, and State and regional public safety officials. The session will include a Subcommittee tour of the Maine Yankee Independent Spent Fuel Storage Installation, to provide an opportunity to see first-hand a shutdown reactor facility currently storing spent nuclear fuel pending final disposal.

Tentative Agenda: The public meeting will begin at approximately 9 a.m. at the Chewonki Foundation. The Subcommittee will then hear presentations from public officials and stakeholder groups, ask questions of presenters, and conclude with a public comment session. The public session is expected to conclude by 12:30 p.m.

Public Participation: Subcommittee meetings are not subject to the requirements of the Act; however, the Commission has elected to open the presentation sessions of the meeting to the public. The meeting is open to the public. Individuals and representatives of organizations who would like to offer comments and suggestions may do so at the end of the public session on Tuesday, August 10, 2010. Approximately 30 minutes will be reserved for public comments from 11:40 a.m. to 12:20 p.m. Time allotted per speaker will depend on the number who wish to speak but will not exceed 5 minutes. The Designated Federal Officer is empowered to conduct the meeting in a fashion that will facilitate the orderly conduct of business. Those wishing to speak should register to do so beginning at 9 a.m. on August 10, 2010 at the Chewonki Foundation.

Those not able to attend the meeting or have insufficient time to address the subcommittee are invited to send a written statement to Timothy A. Frazier, U.S. Department of Energy, 1000 Independence Avenue, SW., Washington DC 20585, e-mail to CommissionDFO@nuclear.energy.gov, or post comments on the Commission Web site at http://www.brc.gov.

Additionally, the meeting will be available via live video webcast. The link will be available at http://www.brc.gov.

Minutes: The minutes of the meeting will be available at http://www.brc.gov or by contacting Mr. Frazier. He may be reached at the postal address or e-mail address above.

Issued in Washington, DC, on July 21, 2010.
Rachel Samuel,
Deputy Committee Management Officer.

[FR Doc. 2010-18208 Filed 7-23-10; 8:45 am]

BILLING CODE 6450-01-P